DEPARTMENT OF THE INTERIOR

Fish and Wildlife Service

50 CFR Part 17

[Docket No. FWS-R8-ES-2013-0080; 4500030114]

RIN 1018-AZ57

Endangered and Threatened Wildlife and Plants; Designation of Critical Habitat for Ivesia webberi (Webber's ivesia)

AGENCY: Fish and Wildlife Service, Interior.

ACTION: Proposed rule; correction.

SUMMARY: We, the U.S. Fish and Wildlife Service (Service), correct the public meeting dates published in the August 2, 2013, proposed rule to designate critical habitat for Ivesia webberi.

DATES: We will hold a public meeting on the proposed rule on September 10, 2013, in Reno, Nevada, from 4:00 to 6:00 p.m.

ADDRESSES: The public meeting will be held at the U.S. Department of the Interior Building, Great Basin Conference Room, 1340 Financial Blvd., Reno, NV 89502. People needing reasonable accommodations in order to attend and participate in the public hearing should contact Jeannie Stafford, Nevada Fish and Wildlife Office, as soon as possible (see FOR FURTHER INFORMATION CONTACT).

FOR FURTHER INFORMATION CONTACT: Edward D. Koch, State Supervisor, U.S. Fish and Wildlife Service, Nevada Fish and Wildlife Office, 1340 Financial Boulevard, Suite 234, Reno, NV 89502; by telephone 775-861-6300; or by facsimile 775-861-6301. Persons who use a telecommunications device for the deaf (TDD) may call the Federal Information Relay Service (FIRS) at 800-877-8339.

SUPPLEMENTARY INFORMATION: In our August 2, 2013, proposed rule to designate critical habitat for Ivesia webberi, we included the wrong date for the public meeting we are holding to discuss the proposed rule. The correct date for the public meeting is listed above in the DATES section of this document.

Authority

The authority for this action is the Endangered Species Act of 1973, as amended (16 U.S.C. 1531 et seq.).

Dated: August 9, 2013.
Patrick Leonard,
Acting Director, U.S. Fish and Wildlife Service.

[FR Doc. 2013-20190 Filed 8-20-13; 8:45 am]

BILLING CODE 4310-55-P